DEPARTMENT OF HEALTH AND HUMAN SERVICES

Health Resources and Services Administration

Notice of Availability of Final Policy Guidance

AGENCY: Health Resources and Services Administration (HRSA), HHS.

ACTION: Final Agency Guidance and Response to Public Comments.

SUMMARY: HRSA is publishing a final Agency Guidance (“Policy Information Notice” (PIN) 2009-02), to describe the policy and processes pertaining to requests from federally-funded health centers to change the scope of their Federal project. The PIN, “Specialty Services and Health Centers” Scope of Project,” and the Agency's “Response to Public Comments” are available on the Internet at http://bphc.hrsa.gov.

DATES: The effective date of this final Agency guidance is December 18, 2008.

Background: The Health Resources and Services Administration administers the Health Center Program, as authorized by section 330 of the Public Health Service (PHS) Act as amended, (42 U.S.C. 254b). Health centers improve the health of the Nation's underserved communities and vulnerable populations by assuring access to comprehensive, culturally competent, quality primary health care services. Health center grants support a variety of community-based and patient-directed public and private nonprofit organizations and continue to serve an increasing number of the Nation's underserved. Charges for health care services are set according to income. At the end of the 2007 calendar year, there were more than 1,000 federally-funded health centers with more than 7,000 primary health care delivery sites located in urban and rural underserved areas throughout the U.S. and its territories. In 2007, over 16 million medically underserved and uninsured patients received comprehensive, culturally competent, quality primary health care services through the federally-supported Health Center Program.

On August 10, 2007, HRSA made the draft PIN, “Specialty Services and Health Centers” Scope of Project,” available for public comment on HRSA's Web site. HRSA also published a notice in the Federal Register of August 29, 2007, requesting comments on this draft PIN.

Sixty-five comments were received from 20 organizations and/or individuals. After review and careful consideration of all comments received, HRSA has amended the PIN to incorporate certain recommendations from the public. The final PIN reflects these changes.

In addition to making the final PIN available on HRSA's Web site, HRSA is also posting the Agency's “Response to Public Comments” at http://bphc.hrsa.gov/policy/pin0902/pin0902comments.htm. The purpose of that document is to summarize the major comments received and describe the Agency's response, including any corresponding changes made to the PIN. Where comments did not result in a revision to the PIN, explanations are provided. Any interested party that does not have access to HRSA's Web site can contact the HRSA point of contact to request that a hardcopy of the “Response to Public Comments” be mailed to their attention.

FOR FURTHER INFORMATION CONTACT: For questions regarding this notice, please contact the Office of Policy and Program Development, Bureau of Primary Health Care, HRSA, at 301-594-4300.

Dated: February 6, 2009.
Elizabeth M. Duke,
Administrator.

[FR Doc. E9-3087 Filed 2-12-09; 8:45 am]

BILLING CODE 4165-15-P